DEPARTMENT OF AGRICULTURE

Animal and Plant Health Inspection Service

[Docket No. APHIS-2007-0021]

Louisiana State University; Availability of an Environmental Assessment and Finding of No Significant Impact for a Field Test of Two Non-Pathogenic, Genetically Engineered Strains of Burkholderia glumae.

AGENCY: Animal and Plant Health Inspection Service, USDA.

ACTION: Notice.

SUMMARY: We are advising the public that the Animal and Plant Health Inspection Service has prepared an environmental assessment for a proposed field test involving two genetically engineered strains of the bacteria, Burkholderia glumae. Burkholderia glumae is a plant pathogen that causes panicle blight in rice (Oryza sativa). The purpose of this field test is to conduct experiments that will provide information on the pathogenicity of Burkholderia glumae and will assist in the development of control methods to reduce yield loss caused by panicle blight. After assessing the application, reviewing pertinent scientific information, and considering public comment, we have concluded that this field test will not present a plant pest risk, nor will it have a significant impact on the quality of the human environment. Based on its finding of no significant impact, the Animal and Plant Health Inspection Service has determined that an environmental impact statement need not be prepared for this field test.

DATES: Effective Date: August 6, 2007.

ADDRESSES: You may read the environmental assessment (EA), finding of no significant impact (FONSI), and our response to the one the comment we received on the EA in our reading room, which is located in room 1141 of the USDA South Building, 14th Street and Independence Avenue SW., Washington, DC. Normal reading room hours are 8 a.m. to 4:30 p.m., Monday through Friday, except holidays. To be sure someone is there to help you, please call (202) 690-2817 before coming. The EA, FONSI and decision notice, and our response to the public comment are available on the Internet at http://www.aphis.usda.gov/brs/aphisdocs/06_11101r_ea.pdf.

FOR FURTHER INFORMATION CONTACT: Dr. Andrea Huberty, Biotechnology Regulatory Services, APHIS, 4700 River Road, Unit 147, Riverdale, MD 20737-1236; (301) 734-0659. To obtain copies of the EA, FONSI and decision notice, and our response to the public comment, contact Ms. Cynthia Eck at (301) 734-0667; e-mail: cynthia.a.eck@aphis.usda.gov.

SUPPLEMENTARY INFORMATION: The regulations in 7 CFR part 340, “Introduction of Organisms and Products Altered or Produced Through Genetic Engineering Which Are Plant Pests or Which There Is Reason to Believe Are Plant Pests,” regulate, among other things, the introduction (importation, interstate movement, or release into the environment) of organisms and products altered or produced through genetic engineering that are plant pests or that there is reason to believe are plant pests. Such genetically engineered organisms and products are considered “regulated articles.” A permit must be obtained or a notification acknowledged before a regulated article may be introduced. The regulations set forth the permit application requirements and the notification procedures for the importation, interstate movement, or release in the environment of a regulated article.

On April 21, 2006, the Animal and Plant Health Inspection Service (APHIS) received a permit application (APHIS No. 06-111-01r) from Louisiana State University, in Baton Rouge, LA for a field test using strains of the bacterium Burkholderia glumae. Permit application 06-111-01r describes four Burkholderia glumae strains—two wild-type strains, one of which is disease-causing and the other naturally non-pathogenic, endemic to the United States, and two genetically engineered, non-pathogenic strains that share the same avirulent phenotype. The transgenic strains were created by placing base pairs of a methyltransferase gene into the cloning vector. The introduced vector, along with the methyltransferase gene, will integrate into the bacterial chromosome by homologous recombination.

The subject Burkholderia glumae is considered a regulated article under the regulations in 7 CFR part 340 because it is the causal pathological agent of panicle blight in rice, a plant disease occurring in the United States.

On June 19, 2007, APHIS published a notice ¹ in the Federal Register (72 FR 33735-33736, Docket No. APHIS-2007-0021) announcing the availability of an environmental assessment (EA) for a field test of two non-pathogenic, genetically engineered strains of Burkholderia glumae. During the 30-day comment period, which ended on June 19, 2007, APHIS received one comment, from an academic professional who opposed APHIS granting the permit. APHIS has addressed the issues raised in the comment and has provided a response as an attachment to the finding of no significant impact (FONSI).

¹ To view the notice, the EA, and the comment we received, go to http://www.regulations.gov/fdmspublic/component/main?main=DocketDetail&d=APHIS-2007-0021.

Pursuant to the regulations in 7 CFR part 340 promulgated under the Plant Protection Act, APHIS has determined that this field test will not pose a risk of introducing or disseminating a plant pest. Additionally, based upon analysis described in the EA, APHIS has determined that the action proposed in Alternative C of the EA, issue the permit with supplemental permit conditions, will not have a significant impact on the quality of the human environment. You may read the FONSI and decision notice on the Internet or in the APHIS reading room (see ADDRESSES above). Copies may also be obtained from the person listed under FOR FURTHER INFORMATION CONTACT.

The EA and FONSI were prepared in accordance with (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

Authority: 7 U.S.C. 7701-7772 and 7781-7786; 31 U.S.C. 9701; 7 CFR 2.22, 2.80, and 371.3.

Done in Washington, DC, this 8th day of August 2007.
Cindy Smith,
Acting Administrator, Animal and Plant Health Inspection Service.

[FR Doc. E7-15932 Filed 8-13-07; 8:45 am]

BILLING CODE 3410-34-P